DEPARTMENT OF ENERGY

Federal Energy Regulatory Commission

Combined Notice of Filings #1

Take notice that the Commission received the following electric corporate filings:

Docket Numbers: EC13-75-000.

Applicants: Wolverine Power Supply Cooperative, Inc., Wisconsin Electric Power Company.

Description: Wolverine Power Supply Cooperative, Inc. et al Application for Authorization for Disposition of Jurisdictional Facilities Pursuant to Federal Power Act Section 203 & Request for limited Waivers & Confidential Treatment.

Filed Date: 2/22/13.

Accession Number: 20130222-5142.

Comments Due: 5 p.m. ET 3/15/13.

Take notice that the Commission received the following electric rate filings:

Docket Numbers: ER12-513-006.

Applicants: PJM Interconnection, L.L.C.

Description: Compliance filing per 1/31/2013 Order accepting Settlement Agreement in ER12-513 to be effective 1/31/2013.

Filed Date: 2/22/13.

Accession Number: 20130222-5077.

Comments Due: 5 p.m. ET 3/15/13.

Docket Numbers: ER13-973-000.

Applicants: Saja Energy LLC.

Description: Market-Based Rates application to be effective 2/23/2013.

Filed Date: 2/22/13.

Accession Number: 20130222-5106.

Comments Due: 5 p.m. ET 3/15/13.

Docket Numbers: ER13-974-000.

Applicants: Dynegy Midwest Generation, LLC.

Description: Revised Rate Schedule to be effective 12/31/1998.

Filed Date: 2/22/13.

Accession Number: 20130222-5115.

Comments Due: 5 p.m. ET 3/15/13.

Docket Numbers: ER13-975-000.

Applicants: Pacific Gas and Electric Company.

Description: Western's WPA (Cottonwood Phase 2), Rate Schedule FERC No 228 to be effective 2/25/2013.

Filed Date: 2/22/13.

Accession Number: 20130222-5123.

Comments Due: 5 p.m. ET 3/15/13.

Docket Numbers: ER13-976-000.

Applicants: Arizona Public Service Company.

Description: Arizona Public Service files Navajo Generating Station Operating Agreement to be effective 4/23/2013.

Filed Date: 2/22/13.

Accession Number: 20130222-5128.

Comments Due: 5 p.m. ET 3/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2013.
Nathaniel J. Davis, Sr.,
Deputy Secretary.

[FR Doc. 2013-04925 Filed 3-4-13; 8:45 am]

BILLING CODE 6717-01-P